NUCLEAR REGULATORY COMMISSION

[Docket Nos. 50-325 and 50-324; NRC-2012-0269]

Brunswick Steam Electric Plant, Units 1 and 2

AGENCY: Nuclear Regulatory Commission.

ACTION: Receipt of request for action.

SUMMARY: The U.S. Nuclear Regulatory Commission (NRC or the Commission) is giving notice that by petition dated July 10, 2012, Mr. David Lochbaum (the petitioner) and two copetitioners on behalf of the North Carolina Waste Awareness & Reduction Network, the Nuclear Information and Resource Service, and the Union of Concerned Scientists have requested that the NRC take action with regard to Brunswick Steam Electric Plant, Units 1 and 2 (Brunswick). The petition is included in the SUPPLEMENTARY INFORMATION section of this document.

ADDRESSES: Please refer to Docket ID NRC-2012-0269 when contacting the NRC about the availability of information regarding this document. You may access information related to this document, which the NRC possesses and are publicly available, using any of the following methods:

• Federal Rulemaking Web site: Go to http://www.regulations.gov and search for Docket ID NRC-2012-0269. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Ms. Farideh Saba, Project Manager, Office of Nuclear Reactor Regulation, U.S. Nuclear Regulatory Commission, Washington, DC 20555-0001; telephone: 301-415-1447; email: Farideh.Saba@nrc.gov.

SUPPLEMENTARY INFORMATION: On July 10, 2012, the petitioners requested that the NRC take action with regard to Brunswick. The petitioners request that the NRC take action in the form of an order either modifying the Brunswick operating licenses' technical specifications (as detailed in the petition) or requiring the licensee to submit amendment requests for these licenses.

As the basis for this request, the petitioners stated that “the current technical specifications for the Brunswick Units 1 and 2, reactors are based on the assumption that the sole scenario involving damage to irradiated fuel outside of the reactor vessel is that resulting from a fuel handling accident involving recently irradiated fuel (i.e., fuel that was within a critical reactor core within the past 24 hours).” However, “loss of water inventory from the spent fuel pool or sustained loss of its cooling capability can also result in damage to irradiated fuel. And the potential extent of that damage and the amount of radioactivity released from damaged fuel can be considerably larger than that resulting from a fuel handling accident.” The petitioners stated that “because the probability of spent fuel pool water inventory or cooling loss is not so low as to be neglected, the technical specification provisions that currently manage the risk from a fuel handling accident must be extended to also cover other credible spent fuel pool events.”

The NRC is handling this petition pursuant to Title 10 of the Code of Federal Regulations (10 CFR), Section 2.206 of the Commission's regulations. The petition has been referred to the Director of the Office of Nuclear Reactor Regulation (NRR). As provided by 10 CFR 2.206, appropriate action will be taken on this petition within a reasonable time. The petitioners had a recorded conference call with the NRR petition review board on August 15, 2012, to discuss and supplement the petition. A copy of the petition is available for inspection under ADAMS Accession No. ML12193A123. The official transcript of the August 15, 2012, conference call is accessible via ADAMS Accession No. ML12234A730.

Dated at Rockville, Maryland, this 31st day of October, 2012.
For the Nuclear Regulatory Commission.
Eric J. Leeds,
Director, Office of Nuclear Reactor Regulation.

[FR Doc. 2012-27192 Filed 11-6-12; 8:45 am]

BILLING CODE 7590-01-P